DEPARTMENT OF TRANSPORTATION

Federal Motor Carrier Safety Administration

[Docket No. FMCSA-2017-0319]

Parts and Accessories Necessary for Safe Operation; Exemption Renewal for Agricultural and Food Transporters Conference of American Trucking Associations

AGENCY: Federal Motor Carrier Safety Administration (FMCSA), Department of Transportation (DOT).

ACTION: Notice of final disposition; grant of application for exemption.

SUMMARY: FMCSA announces its decision to renew an exemption requested by the Agricultural and Food Transporters Conference (AFTC) of American Trucking Associations (ATA), which will allow certain alternative methods for the securement of agricultural commodities transported in wood and plastic boxes and bins and large fiberglass tubs, as well as hay, straw, and cotton bales that are grouped together into large singular units. FMCSA concludes that renewing the exemption, subject to the terms and conditions set forth below, is likely to achieve a level of safety equivalent to or greater than the level of safety that would be achieved absent the exemption.

DATES: This renewed exemption is effective April 15, 2024, through April 15, 2029.

FOR FURTHER INFORMATION CONTACT: Mr. David Sutula, Chief, Vehicle and Roadside Operations Division, Office of Carrier, Driver, and Vehicle Safety, FMCSA, 1200 New Jersey Avenue SE, Washington, DC 20590-0001; (202) 366-9209; MCPSV@dot.gov. If you have questions on viewing or submitting material to the docket, call Dockets Operations at (202) 366-9826.

SUPPLEMENTARY INFORMATION:

I. Viewing Comments and Documents

To view any documents mentioned as being available in the docket, go to https://www.regulations.gov/docket/FMCSA-2017-0319/document and choose the document to review. To view comments, click this notice, then click “Browse Comments.” If you do not have access to the internet, you may view the docket online by visiting Dockets Operations on the ground floor of the DOT West Building, 1200 New Jersey Avenue SE, Washington, DC 20590-0001, between 9 a.m. and 5 p.m. ET, Monday through Friday, except Federal holidays. To be sure someone is there to help you, please call (202) 366-9317 or (202) 366-9826 before visiting Dockets Operations.

II. Legal Basis

FMCSA has authority under 49 U.S.C. 31136(e) and 31315(b)(2) and 49 CFR 381.300(b) to renew an exemption from the FMCSRs for subsequent periods of up to 5 years if it finds that such exemption would likely maintain a level of safety that is equivalent to, or greater than, the level that would be achieved by the current regulation (49 CFR 381.305(a)).

III. Background

On June 18, 2024, FMCSA issued a notice of provisional renewal of exemption for AFTC for a period of 6 months.¹ FMCSA requested comments on the application for exemption from AFTC on the use of alternative cargo securement methods. The comment period closed on July 18, 2024. The Agency did not receive any comments to the notice.

¹ 89 FR 51586.

IV. Exemption Decision

A. Grant of Exemption

As explained in the provisional renewal of exemption notice, the Agency believes that granting the temporary exemption to allow alternative methods for the securement of agricultural commodities in wood and plastic boxes and bins and large fiberglass tubs, as well as hay, straw, and cotton bales that are grouped together into larger singular units, as proposed by AFTC in its original exemption application, will likely provide a level of safety that is equivalent to, or greater than, the level of safety achieved without the exemption. The Agency hereby grants an exemption for a 5-year period, beginning April 15, 2024, and ending April 15, 2029, from 49 CFR 393.102, 393.106, 393.110, and 393.114, to allow alternate methods for the securement of (1) agricultural commodities transported in wood and plastic boxes and bins and large fiberglass tubs, and (2) hay, straw, and cotton bales that are grouped together into large singular units.

B. Applicability of Exemption

During the exemption period, motor carriers operating commercial motor vehicles (CMVs) may use certain alternative methods for the securement of agricultural commodities transported in wood and plastic boxes and bins and large fiberglass tubs, as well as hay, straw, and cotton bales that are grouped together into large singular units, as proposed by AFTC in its original exemption application.

C. Terms and Conditions

1. General:

Motor carriers and CMVs operating under this exemption must comply with all other applicable Federal Motor Carrier Safety Regulations (FMCSRs) (49 CFR parts 350-399), unless specifically exempted from a requirement.

2. Limitation of Exemption:

This exemption applies exclusively to CMVs transporting agricultural commodities in wood and plastic boxes and bins and large fiberglass tubs, as well as hay, straw, and cotton bales that are grouped together into large singular units.

3. Recurring Data Reporting Requirements:

AFTC must provide recurring yearly data submissions to include information on crashes and incidents involving CMVs transporting agricultural commodities in wood and plastic boxes and bins and large fiberglass tubs, as well as hay, straw, and cotton bales that are grouped together into large singular units when operating under this exemption. The first submission is due 5 months after the date of publication of the provisional exemption renewal in the Federal Register (published June 18, 2024), and subsequent submissions are due every 12-months thereafter until the exemption expires or is revoked. The yearly data submissions must be sent via email to FMCSA at MCPSD@dot.gov. If AFTC lacks certain categories of information, alternative information may be discussed with FMCSA and submitted if approved.

4. Data Reporting Requirements for Crashes and Incidents:

At the end of each 12-month period, AFTC must submit a report detailing crash rates, vehicle miles traveled, number and type of CMVs operating under the exemption, and the date of the crash or incident, time, location, and a brief description of the event. AFTC must provide any available information indicating malfunction of the alternative cargo securement methods.

5. Meetings:

AFTC must meet with FMCSA upon request to answer questions regarding data and information provided under the exemption.

D. Preemption

In accordance with 49 U.S.C. 31315(d), as implemented by 49 CFR 381.600, during the period this exemption is in effect, no State shall enforce any law or regulation that conflicts with or is inconsistent with this exemption with respect to a person operating under the exemption. States may, but are not required to, adopt the same exemption with respect to operations in intrastate commerce.

E. Termination

FMCSA does not believe that motor carriers, drivers, and CMVs covered by the exemption will experience any deterioration of safety below the level that would be achieved without the exemption. The exemption will be rescinded if: (1) motor carriers, drivers, or CMVs fail to comply with the terms and conditions of the exemption; (2) the exemption has resulted in a lower level of safety than was maintained before it was granted; or (3) continuation of the exemption would not be consistent with the goals and objectives of 49 U.S.C. 31136(e) and 31315(b).

Vincent G. White,
Deputy Administrator.

[FR Doc. 2024-24446 Filed 10-21-24; 8:45 am]

BILLING CODE 4910-EX-P